DEPARTMENT OF JUSTICE

Notice of Consent Decree Pursuant to the Oil Pollution Act

In accordance with Departmental Policy, 28 CFR 50.7,38 FR 19029, notice is hereby given that a proposed consent decree in United States and State of Louisiana v. Marine Oil Trade 3, Ltd. and Ermis Maritime Corp., Civ. No. 03-2030, Section L, DOJ #90-5-1-1-07673, was lodged in the United States District Court for the Eastern District of Louisiana on July 16, 2003. The Consent Decree resolves the liability of the named defendants to the United States and the State of Louisiana for natural resource damages with respect to the Westchester Oil Spill, pursuant to the Oil Production Act of 1990 (OPA), 33 U.S.C. 2702(b), and section 2480 of the Lousiana Oil Spill Prevention and Response Act (OSPRA), La. Rev. Stat. 30:2480. The claims arise from an oil spill in the Mississippi River at Plaquemines Parish, Louisiana, on November 28, 2000, that resulted from an accident to the vessel WESTCHESTER. The United States and the State share trusteeship of the injured resources and are coordinating restoration efforts.

Under the proposed Consent Decree, the Settlers will reimburse the state and federal trustees for 100% of unrecovered natural resource damage assessment costs and future monitoring costs. Also, they shall complete Restoration Projects to compensate the trustees for the natural resource damages. The Restoration Projects to be performed are the Splay Marsh Restoration Project and the Boat Dock Restoration Project.

The Damage of Justice will receive for a period of thirty (30) days from the date of this publication comments relating to the proposed Consent Decree. Comments should be addressed to the Assistant Attorney General, Environment and Natural Resources Division, P.O. Box 7611, U.S. Department of Justice, Washington, DC 20044-7611, and should refer to the United States and State of Louisiana v. Marine Oil Trader 3, Ltd. and Ermis Maritime Corp., DOJ #90-5-1-1-07673. The proposed Consent Decree may be examined at the Office of the United States Attorney, Eastern District of Louisiana, 501 Magazine Street, New Orleans, Louisiana 70130, and at U.S. EPA Region 6, 1445 Ross Avenue, Suite 1200, Dallas, Texas, 75202. During the public comment period, the proposed Consent Decree may also be examined on the following Department of Justice Web site, http://www.usdoj.gov/enrd/open.html. A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $29.75 (25 cents per page reproduction cost) payable to the U.S. Treasury.

Thomas Mariani,
Assistant Chief, Environmental Enforcement Section, Environment and Natural Resources Division.

[FR Doc. 03-20072 Filed 8-06-03; 8:45 am]

BILLING CODE 4410-15-M]